CORPORATION FOR NATIONAL AND COMMUNITY SERVICE

Agency Information Collection Activities; Submission to the Office of Management and Budget for Review and Approval; Comment Request; Days of Service Project Collection Tool

AGENCY: Corporation for National and Community Service.

ACTION: Notice of information collection; request for comment.

SUMMARY: The Corporation for National and Community Service, operating as AmeriCorps, has submitted a public information collection request (ICR) entitled Days of Service Project Collection Tool for review and approval in accordance with the Paperwork Reduction Act.

DATES: Written comments must be submitted to the individual and office listed in the ADDRESSES section by April 24, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Rhonda Taylor, 202-606-6721, or by email to RTaylor@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on January 17, 2025 at 90 FR 5834. This comment period ended March 18, 2025. No public comments were received from this Notice.

Title of Collection: Days of Service Project Collection Tool.

OMB Control Number: 3045-0122.

Type of Review: Renewal.

Respondents/Affected Public: Businesses and Organizations.

Total Estimated Number of Annual Responses: 100,000.

Total Estimated Number of Annual Burden Hours: 16,667.

Abstract: AmeriCorps is seeking approval to renew its Days of Service Project Tool, which allows organizers of volunteer events to register their service projects that are associated with Martin Luther King, Jr., Service Day, September 11th Day of Service, and other volunteer events. Respondents include national service grantees, corporations, volunteer organizations, government entities, and individuals. Information provided is purely voluntary and will not be used for any grant or funding support. No changes are being requested to this information collection. The current application is due to expire on March 31, 2025.

Rhonda Taylor,
Director of Partnerships and Program Engagement.

[FR Doc. 2025-04996 Filed 3-24-25; 8:45 am]

BILLING CODE 6050-28-P